FEDERAL COMMUNICATIONS COMMISSION

[DA 16-584]

Media Bureau Announces Date by Which LPTV and TV Translator Stations Must Be “Operating” in Order To Participate in Post-Incentive Auction Special Displacement Window

AGENCY: Federal Communications Commission.

ACTION: Notice.

SUMMARY: In this document, the Media Bureau of the Federal Communications Commission (Commission) announces that, in order to participate in the post-Incentive Auction special displacement window, low power television (LPTV) and TV translator stations must be operating on the date that the Channel Reassignment Public Notice is released following the completion of the reverse auction.

FOR FURTHER INFORMATION CONTACT: Shaun Maher, Video Division, Media Bureau, Federal Communications Commission, barbara.kreisman@fcc.gov, (202) 418-2324.

SUPPLEMENTARY INFORMATION: In the Incentive Auction R&O, the Commission delegated authority to the Media Bureau to announce, after release of the Channel Reassignment Public Notice and after eligible full power and Class A television stations have an opportunity to file construction permit applications for their new facilities, including an alternative channel or expanded facility, a limited window for operating LPTV and TV translator stations to submit displacement applications. The Commission's rules limit eligibility to file in the displacement window to “operating low power TV and TV translator stations that are displaced . . . as a result of the broadcast television spectrum incentive auction.” The Commission delegated authority to the Media Bureau to announce the terms of the limited displacement window consistent with the approach outlined in the Incentive Auction R&O.

For these purposes, the Media announces that it interprets an “operating” LPTV or TV translator station that is displaced as a result of the incentive auction to mean one that is operating on the date of release of the Channel Reassignment Public Notice. Moreover, the Media Bureau clarifies that for these purposes a station is “operating” if it has licensed its authorized construction permit facilities or has an application for a license to cover on file with the Commission on that date. LPTV stations will not be required to actually cease operations on their current channels until well after the Channel Reassignment Public Notice is released. But the new full power and Class A channel assignments announced in the Channel Reassignment Public Notice and the new 600 MHz band plan announced contemporaneously will enable LPTV stations to determine whether they will eventually be required to move from their current channel to accommodate a new primary licensee and thus whether they would wish to consider filing for a displacement channel during the special displacement window. Determining the universe of displaced operating LPTV stations as of the release of the Channel Reassignment Public Notice will also assist the Media Bureau in identifying channels that can be proposed by displaced stations based on repacking and optimization software and issuing a public notice listing potential channel assignments in advance of the displacement window.

By announcing the deadline for identifying operating LPTV stations now, well in advance of the release of the Channel Reassignment Public Notice, the Media Bureau seeks to provide LPTV and TV translator station permittees with “sufficient warning of this crucial deadline to allow them to complete construction and license permitted facilities.” Permittees of digital LPTV and TV translators that are not operating on the date of release of the Channel Reassignment Public Notice will have to wait until the completion of the special displacement window for operating LPTV and TV translator stations before being able to file a displacement application and propose a channel from the smaller universe of unused television channels.

The Media Bureau also reminds LPTV and TV translator permittees that the Commission has extended the construction deadline for new digital LPTV and TV translator stations to the new digital transition date for the LPTV and TV translator service, which is 51 months after the release of the Channel Reassignment Public Notice. Thus, any construction efforts they may make between now and release of the Channel Reassignment Public Notice are completely voluntary.

This action is taken by the Chief, Media Bureau pursuant to authority delegated by 47 CFR 0.283 of the Commission's rules.

Federal Communications Commission.
Barbara Kreisman
Chief, Video Division, Media Bureau.

[FR Doc. 2016-13624 Filed 6-8-16; 8:45 am]

BILLING CODE 6712-01-P